DEPARTMENT OF EDUCATION

[CFDA Nos.: 84.209A, 84.210A, 84.296A, and 84.221A]

Office of Elementary and Secondary Education and Office of Special Education and Rehabilitative Services; Combined Notice Inviting Applications for New Awards for Fiscal Year 2000 Awards for Fiscal Year (FY) 2000 Under Four Direct Grant Competitions Under the Native Hawaiian Education Act

Organization of Notice: The accompanying chart includes the following information for each program and competition:

• The CFDA number and name of each affected program.

• The date on which applications will be available.

• The application deadline date.

• Project period.

• The deadline for intergovernmental review.

• The estimated amount of available funds.

• The estimated average size of awards.

• The estimated number of awards.

In addition, the selection criteria and applicable regulations below apply to each program or competition in this notice.

84.209A—Native Hawaiian Family-Based Education Centers Program

Purpose of Program: To expand the operation, throughout the Hawaiian Islands, of Family-Based Education Centers that include: (1) Parent-infant programs for prenatal through three-year-olds; (2) preschool programs for four-and five-year-olds; (3) continued research and development; and (4) a long-term follow-up and assessment program, which may include educational support services for Native Hawaiian language immersion programs or transition to English speaking programs.

Eligible Applicants: Native Hawaiian educational organizations or educational entities with experience in developing or operating Native Hawaiian programs or programs of instruction conducted in the Native Hawaiian language.

Program Authority: 20 U.S.C 7905.

84.210A—Native Hawaiian Gifted and Talented Program

Purpose of Program: To support a program for gifted and talented education that is designed to: (1) Address the special needs of Native Hawaiian elementary and secondary school students who are gifted and talented students; and

(2) provide those support services to families of such students that are needed to enable such students to benefit from the program.

Eligible Applicants: Native Hawaiian educational organizations or educational entities with experience in developing or operating Native Hawaiian programs or programs of instruction conducted in the Native Hawaiian language.

Program Authority: 20 U.S.C. 7907.

84.296A—Native Hawaiian Community-Based Education Learning Centers Program

Purpose of Program: To support collaborative efforts between community-based Native Hawaiian organizations and community colleges to develop, establish and operate a minimum of three community-based education learning centers that meet the needs of families and communities through the coordination of programs and services such as preschool programs, after-school programs, and vocational and adult education programs.

Eligible Applicants: Native Hawaiian educational organizations or educational entities with experience in developing or operating Native Hawaiian programs or programs of instruction conducted in the Native Hawaiian language.

Program Authority: 20 U.S.C. 7910.

84.221A—Native Hawaiian Special Education Program

Purpose of Program: To support projects that address the special education needs of Native Hawaiian students consistent with the purposes of the program as authorized by section 9208 of the Elementary and Secondary Education Act.

Eligible Applicants: Native Hawaiian educational organizations or educational entities with experience in developing or operating Native Hawaiian programs or programs of instruction conducted in the Native Hawaiian language.

Program Authority: 20 U.S.C. 7908.

Selection Criteria: The Secretary will use the following selection criteria in 34 CFR 75.210 to evaluate applications under each of the competitions in the notice. (The specific selection criterion and factors that will be used in evaluating applications are detailed in the application package). The maximum score for all of the selection criteria is 100 points. The maximum points for each criterion is as follows:

(a) Significance—15 points.

(b) Quality of Project Design—35 points.

(c) Quality of Project Personnel—10 points.

(d) Adequacy of Resources—5 points.

(e) Quality of Management Plan—15 points.

(f) Quality of Project Evaluation—20 points.

Applicable Regulations: The Education Department General Administrative Regulations (EDGAR) in 34 CFR Parts 74, 75, 77, 79, 80, 81, 82, 85, 86, 97, 98, and 99.

For Applications and Information Contact: Mrs. Lynn Thomas (202) 260-1541. U.S. Department of Education, 400 Maryland Avenue, SW., FOB6, Room 3C124, Mail Stop 6140, Washington, DC 20202.

The e-mail address for Mrs. Thomas is: lynn_thomas@ed.gov.

For the Native Hawaiian Special Education Program

Application and Information Contact: Mr. Ray Miner (202) 205-9805, U.S. Department of Education, 400 Maryland Avenue, S.W., MES Room 4611, Washington, DC 20202. The e-mail address for Mr. Miner is: ray_miner@ed.gov.

Individuals who use a telecommunications device for the deaf (TDD) may call the Federal Information Relay Service (FIRS) at 1-800-877-8339.

Individuals with disabilities may obtain this document in an alternate format (e.g., Braille, large print, audiotape, or computer diskette) on request to the contact person listed in the preceding paragraph.

Individuals with disabilities may obtain a copy of the application package in an alternate format, also, by contacting that person. However, the Department is not able to reproduce in an alternate format the standard forms included in the application package.

Electronic Access to This Document

You may review this document, as well as all other Department of Education documents published in the Federal Register, in text or Adobe Portable Document Format (PDF) on the Internet at either of the following sites:

http://ocfo.ed.gov/fedreg.htm

http://www.ed.gov/news.html

To use the PDF you must have Adobe Acrobat Reader, which is available free at either of the preceding sites. If you have questions about using PDF, call the U.S. Government Printing Office (GPO); toll free, at 1-888-293-6498; or in the Washington, DC area at (202) 512-1530.

Note: The official version of this document is the document published in the Federal Register. Free Internet access to the official edition of the Federal Register and the Code of Federal Domestic Regulations is available on GPO Access at: http://www.access.gpo.gov/nara/index.html

Dated: June 12, 2000.
Michael Cohen,
Assistant Secretary, Elementary and Secondary Education.
Judith E. Heumann,
Assistant Secretary for Special Education and Rehabilitative Services.

BILLING CODE 4000-01-U

[FR Doc. 00-15246 Filed 6-14-00; 8:45 am]

BILLING CODE 4000-01-C